NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 3, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: records.mgt@nara.gov. FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-03-1, 5 items, 5 temporary items). Routine investigative and audit case files and complaints that do not result in an investigation. Electronic copies of records created using electronic mail and word processing are included. The agency will notify NARA of any case files that may warrant permanent retention, and they will be appraised on a case-by-case basis.

2. Department of the Army, Agency-wide (N1-AU-03-23, 6 items, 6 temporary items). Claims case files and other records relating to claims, including inputs, outputs, master files, and documentation associated with an electronic tracking system. This schedule also authorizes the agency to apply the proposed disposition instructions to any recordkeeping medium.

3. Department of Homeland Security, Information Analysis and Infrastructure Protection Directorate (N1-563-04-9, 3 items, 3 temporary items). Voluntary submissions of Critical Infrastructure Information in all media and formats received by the agency which do not meet the requirements for protection contained in Section 214 of the Homeland Security Act of 2002. Also included are electronic copies of records created using electronic mail and word processing. Notice of this schedule was previously published in the March 18, 2004, Federal Register. It has been re-published since the earlier version did not include electronic mail and word processing copies.

4. Department of Homeland Security, Data Management Improvement Act Task Force (N1-563-04-10, 16 items, 4 temporary items). Administrative meeting files and site visit photographs. Also included are electronic copies of records created using electronic mail and word processing. Proposed for permanent retention are recordkeeping copies of such records as annual reports to Congress, press materials, correspondence, meeting files (open and closed), briefing materials, files on workshops, Executive Director briefing files, and site visit files.

5. Department of Justice, Federal Bureau of Investigation (N1-65-03-2, 3 items, 3 temporary items). Audio, video, or other electronic recordings created in the course of investigations and intelligence operations.

6. Department of State, Bureau of Administration (N1-59-03-10, 45 items, 42 temporary items). Paper and electronic records of the Office of General Services Management relating to such administrative functions as room reservations, motor vehicle fleet management, receptionist and laborer services, audiovisual services, video production, and authentication services. Also included are electronic copies of documents created using word processing and electronic mail. Proposed for permanent retention are master files of audio-visual materials (videos, photographs, and negatives) and related finding aids.

7. Environmental Protection Agency, Agency-wide (N1-412-04-1, 3 items, 3 temporary items). Records relating to the agency's child care assistance program, including correspondence, pay statements, applications, and related forms. Also included are electronic copies of records created using electronic e-mail and word processing.

8. Environmental Protection Agency, Office of the Inspector General (N1-412-04-2, 4 items, 4 temporary items). Records relating to the Inspector General's Operations and Reporting System, an electronic system used for tracking information pertaining to audits, evaluations, investigations, special reports, and general assignments.

9. Environmental Protection Agency, Agency-wide (N1-412-04-4, 6 items, 6 temporary items). Records relating to the development of regulations and the collection of public comments for non-rulemaking actions, including paper and electronic copies of regulatory and general dockets, and the software, documentation, and electronic mail identification and verification data associated with the E-DOCKET electronic system, an on-line public review and comment system pertaining to dockets. Also included are electronic copies of records created using electronic e-mail and word processing.

10. Environmental Protection Agency, Agency-wide (N1-412-04-5, 2 items, 1 temporary item). Electronic copies of records created using electronic mail and word processing relating to the development of environmental policies and programs. Recordkeeping copies of these files, which include correspondence, briefing books, issue papers, reports, and directives, are proposed for permanent retention.

11. Small Business Administration, Office of Hearings and Appeals (N1-309-04-2, 8 items, 8 temporary items). Case files and a related electronic tracking system accumulated in connection with administrative proceedings. Also included are Small Business Regulatory Enforcement Fairness Act comments and electronic copies of documents created using electronic mail and word processing.

Dated: April 8, 2004.
Michael J. Kurtz,
Assistant Archivist for Records Services—Washington, DC.

[FR Doc. 04-8777 Filed 4-16-04; 8:45 am]

BILLING CODE 7515-01-P